DEPARTMENT OF ENERGY

Federal Energy Regulatory Commission

Combined Notice of Filings #1

July 29, 2010.

Take notice that the Commission received the following electric rate filings:

Docket Numbers: ER97-324-019; ER97-3834-025; ER00-1816-008; ER10-663-002; ER01-2317-010; ER08-1418-003; ER07-415-005; ER05-1469-004; ER04-947-012.

Applicants: DTE Pontiac North, LLC, DTE Energy Trading, Inc., POSDEF Power Company, L.P., The Detroit Edison Company, DTE Stoneman, LLC, DTE River Rouge No. 1, LLC, DTE East China, LLC, Metro Energy, L.L.C., DTE Energy Supply, Inc., Woodland Biomass Power Ltd.

Description: Notice of change in status of the DTE MBR Entities.

Filed Date: 07/28/2010.

Accession Number: 20100728-5123.

Comment Date: 5 p.m. Eastern Time on Wednesday, August 18, 2010.

Docket Numbers: ER97-4345-026; ER98-511-014.

Applicants: Oklahoma Gas and Electric Company, OGE Energy Resources, Inc.

Description: Supplement to Notice of Non-Material Change in Status of Oklahoma Gas and Electric Company and OGE Energy Resources, Inc.

Filed Date: 07/28/2010.

Accession Number: 20100728-5111.

Comment Date: 5 p.m. Eastern Time on Wednesday, August 18, 2010.

Docket Numbers: ER00-107-005.

Applicants: La Paloma Generating Company, LLC.

Description: La Paloma Generating Company, LLC submits notice of non-material change in status and filed a Supplemental Information on 7/21/10.

Filed Date: 06/01/2010; 07/01/2010.

Accession Number: 20100602-0235; 20100701-5182.

Comment Date: 5 p.m. Eastern Time on Monday, August 9, 2010.

Docket Numbers: ER00-107-006.

Applicants: La Paloma Generating Company, LLC.

Description: Triennial Market-Based Rate Update Filing of La Paloma Generating Company, LLC.

Filed Date: 06/29/2010.

Accession Number: 20100629-5203.

Comment Date: 5 p.m. Eastern Time on Monday, August 30, 2010.

Docket Numbers: ER10-2024-000.

Applicants: PPL Wallingford Energy LLC.

Description: PPL Wallingford Energy LLC submits tariff filing per 35.12: PPL Wallingford Energy LLC, Baseline Filing to be effective 7/28/2010.

Filed Date: 07/28/2010.

Accession Number: 20100728-5097.

Comment Date: 5 p.m. Eastern Time on Wednesday, August 18, 2010.

Docket Numbers: ER10-2025-000.

Applicants: Louis Dreyfus Energy Services L.P.

Description: Louis Dreyfus Energy Services L.P. submits tariff filing per 35.12: Baseline Tariff Filing to be effective 7/28/2010.

Filed Date: 07/28/2010.

Accession Number: 20100728-5105.

Comment Date: 5 p.m. Eastern Time on Wednesday, August 18, 2010.

Docket Numbers: ER10-2026-000.

Applicants: Pacific Gas and Electric Company.

Description: Pacific Gas and Electric Company submits tariff filing per 35.13(a)(1): Transmission Owner Tariff Rate Case 2011 (TO13) to be effective 10/1/2010.

Filed Date: 07/28/2010.

Accession Number: 20100728-5106.

Comment Date: 5 p.m. Eastern Time on Wednesday, August 18, 2010.

Docket Numbers: ER10-2026-000.

Applicants: Pacific Gas and Electric Company.

Description: Pacific Gas and Electric Company submits tariff filing per 35.13(a)(1): Transmission Owner Tariff Rate Case 2011 (TO13) to be effective 10/1/2010.

Filed Date: 07/28/2010.

Accession Number: 20100728-5107.

Comment Date: 5 p.m. Eastern Time on Wednesday, August 18, 2010.

Docket Numbers: ER10-2027-000.

Applicants: California Independent System Operator Corporation.

Description: California Independent System Operator Corporation submits tariff filing per 35.13(a)(2)(iii): 2010-07-28 DSHBAOA with Griffith Energy to be effective 9/27/2010.

Filed Date: 07/28/2010.

Accession Number: 20100728-5170.

Comment Date: 5 p.m. Eastern Time on Wednesday, August 18, 2010.

Docket Numbers: ER10-2028-000.

Applicants: Southern California Edison Company.

Description: Southern California Edison Company submits their letter agreements between the Transmission Distribution Business Unit and the Generation Business Unit, to be effective 7/23/2010.

Filed Date: 07/29/2010.

Accession Number: 20100729-5003.

Comment Date: 5 p.m. Eastern Time on Thursday, August 19, 2010.

Docket Numbers: ER10-2029-000.

Applicants: Calpine Mid-Atlantic Marketing, LLC.

Description: Calpine Mid-Atlantic Marketing, LLC submits an application for authorization to maket market-based wholesale sales of energy, capacity and ancillary services under FERC Electric Tariff, Original Volume 1, to be effective 9/27/10.

Filed Date: 07/29/2010.

Accession Number: 20100729-5005.

Comment Date: 5 p.m. Eastern Time on Thursday, August 19, 2010.

Docket Numbers: ER10-2030-000.

Applicants: PJM Interconnection, L.L.C.

Description: PJM Interconnection, LLC submits notice of the cancellation of an interconnection service agreement with Liberty Gap Wind Force, LLC.

Filed Date: 07/28/2010.

Accession Number: 20100729-0206.

Comment Date: 5 p.m. Eastern Time on Wednesday, August 18, 2010.

Docket Numbers: ER10-2031-000.

Applicants: Horizon Power, Inc.

Description: Horizon Power, Inc submits notice of cancellation of its FERC Electric Tariff, Original Volume 1, Original Sheet 1-2, effective August 1, 2010.

Filed Date: 07/28/2010.

Accession Number: 20100729-0207.

Comment Date: 5 p.m. Eastern Time on Wednesday, August 18, 2010.

Docket Numbers: ER10-2032-000.

Applicants: Duke Energy Kentucky, Inc.

Description: Duke Energy Kentucky, Inc. submits tariff filing per 35.12: Duke Kentucky Baseline Tariffs Filing to be effective 7/29/2010.

Filed Date: 07/29/2010.

Accession Number: 20100729-5018.

Comment Date: 5 p.m. Eastern Time on Thursday, August 19, 2010.

Docket Numbers: ER10-2033-000.

Applicants: Duke Energy Ohio, Inc.

Description: Duke Energy Ohio, Inc. submits tariff filing per 35.12: Duke Ohio Baseline Tariffs Filing to be effective 7/29/2010.

Filed Date: 07/29/2010.

Accession Number: 20100729-5020.

Comment Date: 5 p.m. Eastern Time on Thursday, August 19, 2010.

Docket Numbers: ER10-2034-000.

Applicants: Duke Energy Indiana, Inc.

Description: Duke Energy Indiana, Inc. submits tariff filing per 35.12: Duke Indiana Baseline Filings to be effective 7/29/2010.

Filed Date: 07/29/2010.

Accession Number: 20100729-5021.

Comment Date: 5 p.m. Eastern Time on Thursday, August 19, 2010.

Take notice that the Commission received the following land acquisition reports:

Docket Numbers: LA10-2-000.

Applicants: Order 697-C 2010 2nd Qtr Site Acquisition.

Description: Endure Energy, L.L.C. Notification of Change in Status Second Quarter 2010.

Filed Date: 07/28/2010.

Accession Number: 20100728-5110.

Comment Date: 5 p.m. Eastern Time on Wednesday, August 18, 2010.

Take notice that the Commission received the following public utility holding company filings:

Docket Numbers: PH10-16-000.

Applicants: ArcLight Capital Holdings, LLC.

Description: Notice of Change in Facts of ArcLight Capital Holdings, LLC.

Filed Date: 06/23/2010.

Accession Number: 20100623-5081.

Comment Date: 5 p.m. Eastern Time on Wednesday, July 14, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-19245 Filed 8-4-10; 8:45 am]

BILLING CODE 6717-01-P